DEPARTMENT OF COMMERCE

National Oceanic and Atmospheric Administration

[RTID 0648-XC735]

Marine Mammals; File No. 27038

AGENCY: National Marine Fisheries Service (NMFS), National Oceanic and Atmospheric Administration (NOAA), Commerce.

ACTION: Notice; receipt of application.

SUMMARY: Notice is hereby given that the Center for Whale Research (Responsible Party: Michael Weiss, Ph.D.), 355 Smuggler's Cove Road, Friday Harbor, WA 98250, has applied in due form for a permit to conduct research on marine mammals.

DATES: Written, telefaxed, or email comments must be received on or before March 6, 2023.

ADDRESSES: The application and related documents are available for review by selecting “Records Open for Public Comment” from the “Features” box on the Applications and Permits for Protected Species (APPS) home page, https://apps.nmfs.noaa.gov, and then selecting File No. 27038 from the list of available applications. These documents are also available upon written request via email to NMFS.Pr1Comments@noaa.gov.

Written comments on this application should be submitted via email to NMFS.Pr1Comments@noaa.gov. Please include File No. 27038 in the subject line of the email comment.

Those individuals requesting a public hearing should submit a written request via email to NMFS.Pr1Comments@noaa.gov. The request should set forth the specific reasons why a hearing on this application would be appropriate.

FOR FURTHER INFORMATION CONTACT: Shasta McClenahan, Ph.D., or Amy Hapeman, (301) 427-8401.

SUPPLEMENTARY INFORMATION: The subject permit is requested under the authority of the Marine Mammal Protection Act of 1972, as amended (MMPA; 16 U.S.C. 1361 et seq.), the regulations governing the taking and importing of marine mammals (50 CFR part 216), the Endangered Species Act of 1973, as amended (ESA; 16 U.S.C. 1531 et seq.), the regulations governing the taking, importing, and exporting of endangered and threatened species (50 CFR parts 222-226), and the Fur Seal Act of 1966, as amended (16 U.S.C. 1151 et seq.).

The applicant requests a 5-year permit to monitor the demography, structure, and health of endangered Southern Resident killer whales (Orcinus orca) and opportunistically study other cetaceans in the inland and coastal waters of Washington. Up to 17 additional species of cetaceans may be targeted for research including the following ESA-listed species: blue (Balaenoptera musculus), fin (B. physalus), gray (Western North Pacific distinct population segment [DPS]; Eschrichtius robustus), humpback (Mexico and Central America DPS; Megaptera novaeangliae), North Pacific right (Eubalaena japonica), sei (B. borealis), and sperm (Physeter macrocephalus) whales. Researchers would conduct vessel surveys, including unmanned aircraft systems, for counts, photography, photo-identification, photogrammetry, video recording, observations, passive acoustic recording, collection of samples (sloughed skin, feces, and predation remains), and underwater photo/videography. Five species of pinnipeds, including endangered Steller sea lions (Western DPS; Eumetopias jubatus), may be harassed during research. See the application for numbers of animals requested by species and procedure.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of the application to the Marine Mammal Commission and its Committee of Scientific Advisors.

Dated: January 30, 2023.
Julia M. Harrison,
Chief, Permits and Conservation Division, Office of Protected Resources, National Marine Fisheries Service.

[FR Doc. 2023-02157 Filed 2-1-23; 8:45 am]

BILLING CODE 3510-22-P